DEPARTMENT OF COMMERCE

International Trade Administration

Meeting on Energy Issues in the Asia Pacific Economic Cooperation

AGENCY: International Trade Administration, Department of Commerce

ACTION: Notice of meeting.

SUMMARY: The U.S. Department of Commerce will host a two-hour meeting during which senior U.S. government officials will brief the business community on recent developments in the Asia Pacific Economic Cooperation (APEC) on energy issues, including the APEC Energy Working Group meeting in Santiago, Chile in April 20-24, 2009. The agenda will feature key outcomes from the Santiago meeting, U.S. objectives for APEC in 2009, including trade and investment priorities, and a discussion on industry engagement and advancing industry's priorities in APEC through effective public-private partnerships.

DATES: Date of the event: June 2, 2009, 10 a.m.-Noon; U.S. Department of Commerce, Room 4830.

ADDRESSES: To register for this meeting, please contact Man Cho, Office of Energy and Environmental Industries; Room 4053; U.S. Department of Commerce; 14th & Pennsylvania Avenue, NW.; Washington, DC 20230; 202-482-5159; man.cho@mail.doc.gov. The meeting will be held at the U.S. Department of Commerce, Room 4830.

FOR FURTHER INFORMATION CONTACT: Man Cho, Office of Energy and Environmental Industries; Room 4053; U.S. Department of Commerce; 14th & Pennsylvania Avenue, NW.; Washington, DC 20230; 202-482-5159; man.cho@mail.doc.gov.

SUPPLEMENTARY INFORMATION: If you are unable to make the meeting and would like further information on this topic, please see the Office of Energy and Environmental Industries Web site at http://www.ita.doc.gov/td/energy or contact us as indicated above.

This meeting is physically accessible to people with disabilities. Requests for sign language interpretation or other auxiliary aids should be directed to the above contact when registering for this meeting.

Cheryl McQueen,
Acting Director, Office of Energy and Environmental Industries, U.S. Department of Commerce.

[FR Doc. E9-12632 Filed 5-28-09; 8:45 am]

BILLING CODE 3510-DR-P